DEPARTMENT OF TRANSPORTATION

National Highway Traffic Safety Administration

[Docket No. NHTSA-2025-0021]

Agency Information Collection Activities; Submission to the Office of Management and Budget for Review and Approval; Request for Comment; Drivers' Use of Camera-Based Rear Visibility Systems Versus Traditional Mirrors

AGENCY: National Highway Traffic Safety Administration (NHTSA), Department of Transportation (DOT).

ACTION: Notice and request for comments on revision of a currently approved collection of information.

SUMMARY: In compliance with the Paperwork Reduction Act of 1995 (PRA), this notice announces that the Information Collection Request (ICR) summarized below will be submitted to the Office of Management and Budget (OMB) for review and approval. This document describes a collection of information for which NHTSA intends to seek a revision to an OMB-approved collection titled, “Drivers' Use of Camera-Based Rear Visibility Systems Versus Traditional Mirrors” identified by OMB Control Number 2127-0756. The collection is currently approved through July 31, 2025, and supports research addressing safety-related aspects of drivers' use of camera-based rear visibility systems designed to replace or supplement vehicle rearview mirrors. This collection is necessary to inform next steps on an ANPRM NHTSA published in response to two petitions requesting revision of FMVSS No. 111 to permit such camera-based systems as an alternative compliance option for certain current requirements specifying rearview mirrors. This revision includes changes in respondents and thus a change in burden hours and requests an extension to continue data collection. A Federal Register Notice with a 60-day comment period soliciting comments on the following information collection was published on May 16, 2025. No comments were received. A summary of comments and responses to them is provided below.

DATES: Comments must be submitted on or before August 28, 2025.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: For additional information or access to background documents, contact Elizabeth Mazzae, Applied Crash Avoidance Research Division, Vehicle Research and Test Center, NHTSA, 10820 State Route 347—Bldg. 60, East Liberty, Ohio 43319; Telephone (937) 666-4511; email address: elizabeth.mazzae@dot.gov.

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted OMB.

Title: Drivers' Use of Camera-Based Rear Visibility Systems Versus Traditional Mirrors.

OMB Control Number: 2127-0756.

Form Numbers: NHTSA forms 1553—Interest Response Form; 1554—Candidate Screening Questions, 2044—Participant Informed Consent Form, 2058—Experimental Data Collection, 1556—Post-Drive Questionnaire: Drive with Camera-Monitor System, 1557—Post-drive Questionnaire: Drive with Mirrors, 1558—Post-drive Questionnaire: Final Opinions.

Type of Request: Revision of a currently approved information collection.

Type of Review Requested: Regular.

Length of Approval Requested: Three years from date of approval.

Summary of the Collection of Information: The National Highway Traffic Safety Administration (NHTSA) is seeking approval for revision of a currently approved information collection, OMB Control Number 2127-0756, “Drivers' Use of Camera-Based Rear Visibility Systems Versus Traditional Mirrors.” NHTSA is conducting research as part of a one-time, multi-year effort to gather information to aid in determining whether camera-based rear visibility systems can provide the same level of safety as the rearview mirrors currently required under FMVSS No. 111, Rear Visibility. NHTSA published an ANPRM (RIN 2127-AM02) responding to two petitions received from vehicle manufacturers seeking permission to install camera-based rear visibility systems (sometimes referred to as camera monitor systems, CMS), instead of outside rearview mirrors, on both light vehicles and heavy trucks. In an ANPRM, NHTSA outlined a list of issues and related questions “on which the agency requests additional information to adequately evaluate the safety of permitting CMS as an alternative compliance option to rearview mirrors.” ¹ This research involves 6 voluntary information collections and will help answer important safety questions posed in the ANPRM and inform NHTSA's response to the petitions by aiding in determining whether CMS can provide at least the same level of safety as the currently required mirrors.

¹ 84 FR 54533. Docket No. NHTSA-2018-0021. Federal Motor Vehicle Safety Standard No. 111, Rear Visibility; Advance notice of proposed rulemaking (ANPRM).

The research examines the use of camera-based visibility systems versus rearview mirrors for both light vehicles and heavy trucks. Research participants are volunteers who are members of the general public, who are licensed car and/or commercial truck drivers aged 25 to 65 years. Research participants experience a vehicle equipped with a production or prototype camera-based visibility system and/or an FMVSS No. 111-compliant rearview mirror system. The research uses stationary, track-based, and on-road, semi-naturalistic driving experimentation as a means of collecting data needed to support the rulemaking effort. The collection of information will consist of (1) Interest Response Form to be administered up to 792 potential research participants, (2) Candidate Screening Questions to be administered up to 578 potential research participants, (3) Study Data Collection, (4) Post-Drive Questionnaire: Drive with Camera-Monitor System, (5) Post-Drive Questionnaire: Drive with Mirrors, and (6) Post-Drive Questionnaire: Final Opinions. This collection provides flexibility to collect additional information to address critical research questions raised during the course of this research that are deemed necessary to support rulemaking.

This is a revision of a currently approved information collection (IC) to extend the approval period, adjust the number of respondents annually, and revise the burden calculations based on data collection completed as of March 14, 2025. The currently approved collection permitted 200 respondents annually across multiple complementary studies within the research taking place over the original approved period. In this extension request, NHTSA is requesting 156 respondents annually over the three-year approval period. This notice provides changes from the current collection to this revision in the number of respondents for some individual information collections, the time for completion of some individual information collections, wages, and federal wage rates. Additionally, NHTSA has included contractor costs that were unintentionally excluded from the original collection.

Description of the Need for the Information and Proposed Use of the Information: The National Highway Traffic Safety Administration's (NHTSA) mission is to save lives, prevent injuries, and reduce economic costs associated with motor vehicle crashes. As new vehicle technologies are developed, it is prudent to ensure that they do not create any unintended decrease in safety. The safety of passive camera-based visibility technologies depends on both the performance of the systems and on drivers' ability to use the systems effectively and comfortably. Information regarding this safety question is needed to aid NHTSA's rulemaking activities (RIN 2127-AM02) responding to two petitions received from vehicle manufacturers seeking permission to install camera-based systems, instead of outside rearview mirrors, as a means of meeting certain FMVSS No. 111 rear visibility requirements on both light vehicles and heavy trucks. This work seeks to examine and compare drivers' eye glance behavior and aspects of driving performance with rearview mirrors and camera-based systems intended to replace or supplement rearview mirrors.

60-Day Notice:

A Federal Register notice with a 60-day comment period soliciting public comments on the following information collection was published on May 16, 2025 (90 FR 21109). Two comments were received.

Daimler Truck North America (“DTNA”) submitted a comment that did not address the topic of PRA clearance. Rather, the comment encouraged NHTSA to take action to support the deployment of camera-based rear visibility systems for commercial motor vehicles.

The National Association of Mutual Insurance Companies (NAMIC) commented regarding the invited topic of “whether the proposed collection of information is necessary for the proper performance of the functions of NHTSA, including whether the information will have practical utility,” as was stated in the 60-day Federal Register notice. The points raised by NAMIC are summarized as follows along with a response for each:

1. NAMIC commented that the 60-day notice content would have been more helpful if it provided greater detail regarding “the safety purposes behind tracking drivers' eye glance behavior and aspects of driving performance with rearview mirrors and camera-based systems.” Response: Research being conducted under this clearance seeks to address questions “on which the agency requests additional information to adequately evaluate the safety of permitting CMS as an alternative compliance option to rearview mirrors” as outlined in the 2019 ANPRM. Information about drivers' eye glance behavior (e.g., duration that the drivers' eyes are looking away from the forward roadway during a lane change) and driving performance (e.g., distance to rearward vehicles during a lane change) is used to assess safety-related differences associated with use of required mirrors versus a camera-based visibility system.

2. NAMIC also commented that “more specifics on how and why the size and composition representative sample was determined to be of value would be instructive to considering practical value of the exercise.” NAMIC also commented that “A one-time study of the eye movement of 156 Midwest drivers may in fact provide practical value to a safety assessment, but it may also seem more anecdotal than demonstrative.” Response: The stated number of respondents represents the number that would participate annually across multiple complementary studies within the research. NHTSA is not planning a single, 156-participant study. The total number of respondents is that predicted to be needed, based on existing knowledge of related driver behavior characteristics and metrics, to attain sufficient statistical power for each of the studies within the research.

3. Lastly, NAMIC also commented that NHTSA did not address the cost side of a cost benefit analysis relating to the research, did not define which of the 1,994 respondents will receive pay or expenses, or how much, and that the notice states “Estimated Total Annual Burden Cost: $0.” Response: The Paperwork Reduction Act requires in part that the agency publish a notice in the Federal Register which estimates the burden that results from the collection of information.² This cost-related information estimates the burden the information collection would impose on the public. NHTSA estimates 156 respondents annually will participate in the Experimental Data Collection, and participants that complete the study will receive $65 per hour. The estimated burden cost is $0 because there is no cost to respondents for this information collection. Participants are compensated for their travel to and from the study site at the current internal revenue mileage rate, therefore there is no travel cost for participants.

² 44 U.S.C. 3507.

NHTSA appreciates the review, consideration, and support of the research. No changes to the information collection were necessary as a result of these comments.

Affected Public:

Research participants will be paid volunteers from the Columbus, OH area who are licensed car and/or commercial truck drivers aged 25-65 years, drive at least 11,000 miles annually, are in good health, and do not require assistive devices to safely operate a vehicle and drive continuously for a period of up to 3 hours.

Estimated Number of Respondents:

Candidate participant recruitment information is collected in an incremental fashion to permit the determination of which individuals meet the criteria for research participation. All interested candidates (estimate: 792) complete the Interest Response Form. A subset of individuals (estimate: 578) are then asked to complete Candidate Screening Questions. Those who complete the questions and are eligible are contacted for participation, with a goal of 156 participants annually.

Frequency: Once.

Estimated Number of Responses:1,994 responses.

Estimated Total Annual Burden Hours: 835 hours.

Burden has been adjusted from the currently approved collection using the response/eligibility rates for the most recent experiment in this research. The table below shows completion numbers and rates for different stages of collection for that particular experiment. Notice that the last row of the table shows the number of respondents who completed the experiment and for which data were usable. Some respondents' data were identified as not usable after the conclusion of the experiment due to issues such as technical difficulties with the data acquisition equipment. As the final, usable, and verified data will be the basis on which research conclusions are drawn, this collection extension and revision requests an increase in the number of respondents in order to complete the research with enough usable data.

Table 1—Response/Eligibility Rate Data
Information collection | Completed | Response/eligibility rate (%)
Interest Response Form | 275 |
Candidate Screening Questionnaire | 200 | 73
Experimental Data Collection | 53 | 27
Usable Data | 24 | 45

The Interest Response Form is the initial information collection for an experiment and is a response to the solicitation for candidate research participants. Interested individuals respond to a study recruitment advertisement by completing this Interest Response Form. This is a one-time electronic collection for each experiment and is estimated to take approximately 5 minutes to complete. Using the most recent experiment associated with this information collection and calculating response rates, NHTSA requests approval for 792 respondents annually for this collection.

The Interest Response Form submissions are reviewed manually by research staff to select eligible participants. Individuals whose responses meet participation requirements (recent eligibility rate was calculated to be 73%) are selected to complete the Candidate Screening Questions. Candidate participants are emailed a link to the electronically presented question set hosted on a secure website. NHTSA estimates that 578 individuals will receive the Candidate Screening Questions. This information is collected once for each experiment and takes approximately 7 minutes to complete.

Upon review and determination that the candidate is eligible, that candidate is contacted by email or phone to schedule their participation. Individuals scheduled for study participation are asked to appear at NHTSA's Vehicle Research and Test Center in East Liberty, OH for the Experimental Data Collection. The Experimental Data Collection includes a pre-briefing and data collection during execution of the study protocol. The pre-briefing consists of a greeting, Participant Informed Consent Form administration, and presentation of experimental protocol instructions. The Participant Informed Consent Form is administered via both pre-recorded audio and a printed hard copy. After presentation of the consent form, the participant is given the opportunity to ask questions and then asked to sign an electronic version of the consent form on a computer. Following consent, the participant receives instructions on the experimental protocol. For Experimental Data Collection, the participant is shown the vehicle, seated in the driver seat, and equipment calibration is performed. Data collection per the study protocol is then conducted through stationary, track-based, or on-road, semi-naturalistic driving experimentation. Data are recorded to document driver eye glance behavior and driving or other protocol-related performance. This Experimental Data Collection is conducted once per study and is estimated to take approximately 245 minutes. This estimate includes scheduling, instruction, and the drive. From the data collected thus far, 245 minutes is an appropriate maximum time. Using the recent response rate of 27 percent, NHTSA estimates 156 respondents annually will participate in the Experimental Data Collection.

Respondents complete the Post-drive Questionnaire: Drive with Camera Monitor System and/or the Post-drive Questionnaire: Drive with Traditional Mirrors depending on which system or systems are used in the respective experiment. While some respondents may only complete one of these questionnaires based on the study design, NHTSA has included both questionnaires for each participant in the burden calculation to develop a maximum burden estimate. This electronic collection is estimated to take 10 minutes per questionnaire. As the same number of respondents that participate in the Experimental Data Collection will complete these questionnaires, NHTSA estimates 156 respondents will complete each of these annually.

Each respondent completes the Post-Drive Questionnaire: Final Opinions. This electronic collection will be administered once to each participant and is estimated to take 5 minutes to complete. All 156 respondents are expected to complete this questionnaire.

Table 2 shows the annual burden hours for the research.

Table 2—Annual Burden Hours and Opportunity Cost
Information collection | Annual number of respondents | Frequency of response | Annual responses | Time per response (min) | Annual estimated burden hours (rounded)
Interest Response Form | 792 | 1 | 792 | 5 | 66
Candidate Screening Questions | 578 | 1 | 578 | 7 | 67
Participant Informed Consent Form | 156 | 1 | 156 | 30 | 78
Experimental Data Collection | 156 | 1 | 156 | 215 | 559
Post-drive Questionnaire: Drive with Camera Monitor System | 156 | 1 | 156 | 10 | 26
Post-drive Questionnaire: Drive with Traditional Mirrors | 156 | 1 | 156 | 10 | 26
Post-Drive Questionnaire: Final Opinions | 156 | 1 | 156 | 5 | 13
Total |  |  |  |  | 835 hours

The change reflected in this revision is a reduction in annual burden from 890 hours per year to 835 hours per year.

Estimated Total Annual Burden Cost: $0.

There is no cost to respondents for this information collection. Participants are compensated for their travel to and from the study site at the current internal revenue mileage rate, therefore there is no travel cost for participants.

Public Comments Invited: You are asked to comment on any aspects of this information collection, including (a) whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on respondents, including the use of appropriate automated, electronic, mechanical, or other technological collection techniques or other forms of information technology, e.g., permitting electronic submission of responses.

Authority: The Paperwork Reduction Act of 1995; 44 U.S.C. Chapter 35, as amended; 49 CFR 1.49; and DOT Order 1351.29A.

Cem Hatipoglu,
Associate Administrator, Vehicle Safety Research.

[FR Doc. 2025-14225 Filed 7-28-25; 8:45 am]

BILLING CODE 4910-59-P